Proclamation 8911 of November 30, 2012

National Impaired Driving Prevention Month, 2012

By the President of the United States of America

A Proclamation

As Americans gather with friends and family to share in the holiday season, National Impaired Driving Prevention Month reminds us of the importance of celebrating safely. Every year, accidents involving drunk, drugged, or distracted driving claim thousands of lives, leaving families to face the heartbreak of losing a loved one. We stand with all those who have known the tragic consequences of drugged or drunk driving, and we rededicate ourselves to preventing it this December and throughout the year.

Alcohol and drugs present serious risks to all drivers. It is well known that drugs, including some prescription medications, can impair the skills necessary for safe and responsible driving. Distractions like using mobile phones and other electronics behind the wheel also make our roads more hazardous. To reduce the prevalence of impaired driving, my Administration is working to raise public awareness, improve impaired driving screening procedures, and ensure law enforcement officers get the training they need. We are also striving to stop substance abuse before it starts by supporting local prevention programs and providing youth with the facts about alcohol and drug use.

Families play an essential part in stopping impaired driving. By talking about the risks and setting clear expectations, parents and other caregivers can help their children stay safe, sober, and focused on the road. Educators, health care providers, and community leaders can join in that important work by promoting responsible decisionmaking and encouraging young people to live free of drugs and alcohol.

This month, we recommit to keeping our streets safe, our families healthy, and our communities strong. To learn more about impaired driving and how all of us can work to prevent it, visit www.WhiteHouse.gov/ONDCP and www.NHTSA.gov/Impaired.

NOW, THEREFORE, I, BARACK OBAMA, President of the United States of America, by virtue of the authority vested in me by the Constitution and the laws of the United States, do hereby proclaim December 2012 as National Impaired Driving Prevention Month. I urge all Americans to make responsible decisions and take appropriate measures to prevent impaired driving.

IN WITNESS WHEREOF, I have hereunto set my hand this thirtieth day of November, in the year of our Lord two thousand twelve, and of the Independence of the United States of America the two hundred and thirty-seventh.

[FR Doc. 2012-29575

Filed 12-4-12; 11:15 am]

Billing code 3295-F3